DEPARTMENT OF ENERGY

Federal Energy Regulatory Commission

Notice of Denial of Water Quality Certification

| Project No.
Eagle Creek Hydro Power, LLC | 9690-115
Eagle Creek Water Resources, LLC
Eagle Creek Land Resources, LLC
Eagle Creek Hydro Power, LLC | 10481-069
Eagle Creek Water Resources, LLC
Eagle Creek Land Resources, LLC
Eagle Creek Hydro Power, LLC | 10482-122
Eagle Creek Water Resources, LLC
Eagle Creek Land Resources, LLC

On March 31, 2020, Eagle Creek Hydro Power, LLC, Eagle Creek Water Resources, LLC, and Eagle Creek Land Resources, LLC (co-licensees collectively referred to as Eagle Creek) jointly filed an application for a new license for each of the “Mongaup River Projects” consisting of the Swinging Bridge Hydroelectric Project (P-10482), Mongaup Falls Hydroelectric Project (P-10481), and the Rio Hydroelectric Project (P-9690). Eagle Creek filed with the New York Department of Environmental Conservation (New York DEC) a request for water quality certification for the Mongaup River Projects under section 401(a)(1) of the Clean Water Act on March 30, 2021. On March 24, 2022, the New York DEC denied certification for the project. Eagle Creek filed a copy of New York DEC's denial of certification on November 14, 2022. Pursuant to 40 CFR 121.8, we are providing notice that New York DEC's denial satisfies the requirements of 40 CFR 121.7(e).

Dated: December 8, 2022.
Kimberly D. Bose,
Secretary.

[FR Doc. 2022-27121 Filed 12-13-22; 8:45 am]

BILLING CODE 6717-01-P